DEPARTMENT OF JUSTICE

Office of Justice Programs

Agency Information Collection Activities: Proposed Collection; Comment Request

ACTION: Notice of information collection under review; extension of a currently approved information collection; National Evaluation of the Safe Schools/Healthy Students Initiative.

The Department of Justice, Office of Justice Programs, Office of Juvenile Justice and Delinquency Prevention, has submitted the following information collection request for review and clearance in accordance with the Paperwork Reduction Act of 1995. Office of Management and Budget (OMB) approval is being sought for the information collection listed below. This proposed information collection was previously published in the Federal Register on December 14, 2001, Volume 65, page 78191, allowing for a 60-day comment period from the public and affected agencies.

The purpose of this notice is to allow an additional 30 days for public comment until August 16, 2001. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile at (202) 395-7285. Comments may also be submitted to the Department of Justice, Justice Management Division, Information Management and Security Staff, Attention: Department Clearance Office, Suite 1220, National Place Building, 1331 Pennsylvania Avenue, NW., Washington, DC 20530.

Written comments and/or suggestions from the public and affected agencies concerning the proposed collection of information should address one or more of the following four points:

(1) Evaluate whether the proposed collection of information is necessary for the proper performance of the function of the agency, including whether the information will have practical utility.

(2) Evaluate the accuracy of the agency's estimate of the burden of the proposed collection of information, including the validity of the methodology and assumptions used.

(3) Enhance the quality, utility, and clarity of the information to be collected.

(4) Minimize the burden of the collection of information on those who are to respond, including through the use of appropriate automated, electronic, mechanical, or other technological collection techniques or other forms of information technology; e.g., permitting electronic submission of responses.

Overview of This Information

(1) Type of information collection: Application for new collection effort.

(2) The title of the form/collection: The National Evaluation of the Safe Schools/Healthy Students Initiative has several information collection forms, which are: District Personnel Survey, School Personnel Surveys, Classroom Teacher Survey, Teacher Rating Scale, Coalition/Partnership Survey, Key Partners Survey, Student Survey, Project Director Survey, Archival Data Collection, Economic Data Collection, Focus Group Discussion Questions for Parents and Community, Focus Group Discussion Questions for Students.

(3) The agency form number, if any, and the applicable component of the Department sponsoring the collection: None; Office of Justice Programs, Office of Juvenile Justice and Delinquency Prevention.

(4) Affected public who will be asked or required to respond, as well as a brief abstract: Primary: School personnel, which includes superintendents, principals, counselors, and violence prevention and drug coordinators; 1st, 3rd, 5th, 7th, 9th and 11th grade teachers; Coalition Members; Students in grades 7, 9, and 11 (15 sites only); Project directors; Parents (15 sites only); Community members (15 sites only); and Chief Financial Officers (15 sites only). 42 U.S.C. 5633 authorizes the Office of Juvenile Justice and Delinquency Prevention to collect information on all aspects of the Safe Schools/Healthy Students Initiative programs. The purposes of the surveys, coalition discussion guides, focus groups, etc., are to obtain information from the respondents that will assist in evaluating the effectiveness of the Safe Schools/Healthy Students Initiative and contribute to the development of policies and programs that reduce violence, crime, substance use, and other risk-related behaviors, and that support healthy childhood development. The survey instruments focus on the nature and scope of alcohol, tobacco, and other drug use among youth, and perceptions about school safety; crime and violence; educational climate; school policies and programs; and mental health development.

(5) An estimate of the total number of respondents and the amount of time estimated for an average respondent to respond/reply:

Annual Burden Estimates ¹
Instrument | Number of respondents | Number of responses per respondent | Average burden hours per response | Total burden hours
District Personnel Survey | 308 | 1 | 1.0 | 308
School Personnel Surveys:
Principal | 1,335 | 1 | 1.0 | 1335
Mental Health Coord | 1,335 | 1 | .50 | 667.5
Substance Use Prevention Coord | 1,335 | 1 | .50 | 667.5
Violence Prevention Coord | 1,335 | 1 | .50 | 667.5
School-level Total | 5,340 |  | 2.5 | 3,337.5
Classroom Teacher Survey | 4,252 | 1 | .50 | 2,126
Teacher Rating Scale | 1,397 | 5 | .42 | 2,933.7
Student Survey | 10,184 | 1 | .75 | 7,638
Archival Data Collection (None) | 378 | 1 | (²) |
Coalition Survey | 1,540 | 1 | .50 | 770
Key Partners Survey | 231 | 1 | .50 | 115.5
Project Director Survey | 77 | 1 | .75 | 57.75
Economic Data Collection | 15 | 1 | 4.0 | 60
Focus Groups Questions: Parents and Community Members | 150 | 1 | 2.0 | 300
Focus Groups Questions: Students | 150 | 1 | 1.0 | 150
¹ All estimates are based on 77 sites except for student surveys, teacher rating scales, economic and focus groups which are drawn from the 15 Sentinel sites only.
² Data to be collected for personnel responsible for providing publicly available agency-level data; thus SS/HS data collection burden is not expected to exceed general practice.

(6) An estimate of the total public burden (in hours) associated with the collection: 17,796.45 hours.

If additional information is required, contact Mrs. Brenda E. Dyer, Deputy Clearance Officer, Department of Justice, Information Management and Security Staff, Justice Management Division, National Place, Suite 1220, 1331 Pennsylvania Avenue, NW., Washington, DC 20530.

Dated: July 11, 2001.
Brenda E. Dyer,
Department Deputy Clearance Officer, United States Department of Justice.

[FR Doc. 01-17774 Filed 7-16-01; 8:45 am]

BILLING CODE 4410-18-M